ENVIRONMENTAL PROTECTION AGENCY

[EPA-HQ-OPPT-2017-0631; FRL-10433-01-OMS]

Information Collection Request Submitted to OMB for Review and Approval; Comment Request; Residential Lead-Based Paint Hazards Disclosure Requirements (Renewal)

AGENCY: Environmental Protection Agency (EPA).

ACTION: Notice.

SUMMARY: The Environmental Protection Agency (EPA) has submitted an information collection request (ICR), Residential Lead-Based Paint Hazards Disclosure Requirements (EPA ICR Number 1710.09, OMB Control Number 2070-0151) to the Office of Management and Budget (OMB) for review and approval in accordance with the Paperwork Reduction Act. This is a proposed extension of the ICR, which is currently approved through November 30, 2022. Public comments were previously requested via the Federal Register on March 1, 2022, during a 60-day comment period. This notice allows for an additional 30 days for public comments. A fuller description of the ICR is given below, including its estimated burden and cost to the public. An agency may not conduct or sponsor and a person is not required to respond to a collection of information unless it displays a currently valid OMB control number.

DATES: Additional comments must be received on or before December 21, 2022.

ADDRESSES: Submit your comments to EPA, referencing Docket ID No. EPA-HQ-OPPT-2017-0631, online www.regulations.gov (our preferred method), by email to www.epa.gov/dockets, or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460; telephone number: (202) 566-1204; email address: sleasman.katherine@epa.gov.

SUPPLEMENTARY INFORMATION: Supporting documents, which explain in detail the information that the EPA will be collecting, are available in the docket for this ICR. The docket can be viewed online at https://www.regulations.gov or in person at the EPA Docket Center, WJC West, Room 3334, 1301 Constitution Ave., NW, Washington, DC. The telephone number for the Docket Center is 202-566-1744. For additional information about EPA's dockets, visit https://www.epa.gov/dockets.

Abstract: This ICR covers the information collection activities associated with the reporting and recordkeeping requirements for sellers, lessors, and their agents' disclosure activities in target housing including the allowance of up to ten days for an optional risk assessment or inspection before being obligated under a purchase or lease contract.

Form Numbers: 9600-040 and 9600-041.

Respondents/Affected Entities: Persons engaged in selling or leasing certain residential dwellings built before 1978. The North American Industrial Classification System (NAICS) codes associated with industries most likely affected by the paperwork requirements are provided in the ICR.

Respondent's obligation to respond: Mandatory, 40 CFR part 745.

Estimated number of respondents: 16,793,558 (total).

Frequency of response: On occasion.

Total estimated burden: 5,481,069 hours (per year). Burden is defined at 5 CFR 1320.3(b).

Total estimated cost: $133,320,708 (per year), includes $0 annualized capital or operation and maintenance costs.

Changes in the Estimates: There is a decrease of 471,275 hours in the total estimated respondent burden compared with that identified in the ICR currently approved by OMB. As explained in more detail in the ICR, this decrease reflects revisions to the estimated number of respondents based on updates to data sources, revisions to time burden estimates due to technological change (e.g., widespread use of electronic real estate transacting and documentation), and revisions based on market factors (e.g., declines in the numbers of rentals and declines in the amount of owner-occupied target housing in the market).

Courtney Kerwin,
Director, Regulatory Support Division.

[FR Doc. 2022-25282 Filed 11-18-22; 8:45 am]

BILLING CODE 6560-50-P